DEPARTMENT OF COMMERCE

National Oceanic and Atmospheric Administration

RIN 0648-XA373

Endangered and Threatened Species; Take of Anadromous Fish

AGENCY: National Marine Fisheries Service (NMFS), National Oceanic and Atmospheric Administration (NOAA), Commerce.

ACTION: Application for the renewal of a scientific research permit.

SUMMARY: Notice is hereby given that NMFS has received a scientific research permit application request relating to salmonids listed under the Endangered Species Act (ESA). The proposed research is intended to increase knowledge of the species and to help guide management and conservation efforts. The application and related documents may be viewed online at: https://apps.nmfs.noaa.gov/preview/preview_open_for_comment.cfm. These documents are also available upon written request or by appointment by contacting NMFS by phone (707) 825-5186 or fax (707) 825-4840.

DATES: Written comments on the permit application must be received at the appropriate address or fax number (see ADDRESSES) no later than 5 p.m. Pacific standard time on May 19, 2011.

ADDRESSES: Written comments on the application should be submitted to the Protected Resources Division, NMFS, 1655 Heindon Road, Arcata, CA 95521. Comments may also be submitted via fax to (707) 825-4840 or by e-mail to FRNpermits.AR@noaa.gov.

FOR FURTHER INFORMATION CONTACT: Shari Anderson, Arcata, CA ph.: (707) 825-5186, e-mail: Shari.Anderson@noaa.gov.

SUPPLEMENTARY INFORMATION:

Species Covered in This Notice

This notice is relevant to federally threatened California Coastal (CC) Chinook salmon (Oncorhynchus tshawytscha), threatened Southern Oregon/Northern California (SONCC) Coho salmon (O. kisutch), and threatened Northern California (NC) steelhead (O. mykiss).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Application Received

Permit 16128

United States Geological Survey (USGS), California Coop Fish & Wildlife Research Unit, is requesting a 5-year permit to take adult and juvenile CC Chinook salmon, SONCC coho salmon, and NC steelhead associated with three research projects in two watersheds in northern California. In the three studies described below, researchers do not expect to kill any listed fish but a small number may die as an unintended result of the research activities.

Project 1 is a study to estimate abundance and survival of all life stages of CC Chinook salmon, SONCC coho salmon, and NC steelhead in Prairie Creek (Humboldt County). Annually, USGS proposes to observe (snorkel survey), capture (backpack electrofisher), handle (identify), and release fish to estimate juvenile abundance. Escapement of adults will be estimated annually from the capture (resistance board weir), handle (identify and measure), marking (PIT tagging), and releasing of fish. Carcasses will be captured, handled, and released; live adults and redds will be observed (spawning surveys) annually. Smolt abundance will be estimated annually through the capture (screw trap), handling (identify, measure), marking (dye injection), and release of fish. Samples (scale collection) will be collected from NC steelhead smolts when captured. Data collected by this research will inform managers of the status and trends in abundance and survival of these species.

Project 2 is a study that will estimate adult CC Chinook salmon, SONCC coho salmon, and NC steelhead escapement in Redwood Creek (Humboldt County) using dual frequency identification sonar (DIDSON). Adult CC Chinook salmon, SONCC coho salmon, and NC steelhead will be observed annually through the operation of a small sonar device from the edge of the river channel to record fish passing upstream. The research will inform managers of the status and trends in abundance of these species.

Project 3 is a study that will document the importance of cool water habitats in the Klamath River watershed (Humboldt County). The study will be performed in two different locations in the Klamath River basin; tributary mouths in the Lower Klamath River and estuary, and at the confluence of Independence Creek and the Klamath River. USGS proposes to gather information on juvenile Chinook salmon (not ESA listed), juvenile steelhead (not ESA listed), and SONCC coho salmon use of cool water habitats. Annually, intensive sampling will occur at the confluence of Independence Creek and the Klamath River. Sampling will be carried out weekly during the months of July, August, and September. Intensive sampling will monitor the movements of juvenile salmonids in and out of cool water habitats and their feeding behaviors in those habitats. Juvenile salmonids will be captured (beach seine), handled (identify, measure, weigh), marked (PIT tagged), and released. A portion of the fish captured (no more than 20) will have their stomachs pumped to determine relative feeding success. Abundance of juvenile salmonids and the frequency of their feeding behaviors will be estimated through observation (snorkel survey). Less intensive sampling will occur once every two weeks during the months of July, August, and September in the Lower Klamath River, its tributaries, and the estuary and will consist of capture (beach seine), handle (identify, measure, weigh), and release of fish. The information gathered will inform managers on the importance of cool water habitats in planning for restoration of the river.

This notice is provided pursuant to section 10(c) of the ESA. NMFS will evaluate the application, associated documents, and comments submitted to determine whether the application meet the requirements of section 10(a) of the ESA and Federal regulations. The final permit decision will not be made until after the end of the 30-day comment period. NMFS will publish notice of its final action in the Federal Register.

Dated: April 14, 2011.
Angela Somma,
Chief, Endangered Species Division, Office of Protected Resources, National Marine Fisheries Service.

[FR Doc. 2011-9456 Filed 4-18-11; 8:45 am]

BILLING CODE 3510-22-P